DEPARTMENT OF TRANSPORTATION

Federal Aviation Administration

14 CFR Part 71

[Docket No. FAA-2005-23271; Airspace Docket No. 05-AWP-15]

RIN 2120-AA66

Establishment of Class E Enroute Domestic Airspace Area, Vandenberg AFB, CA

AGENCY: Federal Aviation Administration (FAA), DOT.

ACTION: Direct final rule, confirmation of effective date.

SUMMARY: This document confirms the effective date of the direct final rule which establishes a Class E enroute domestic airspace area, Vandenberg AFB, CA, to replace existing Class G uncontrolled airspace.

DATES: Effective Date: 0901 UTC June 8, 2006.

FOR FURTHER INFORMATION CONTACT: Francie Hope, Western Terminal Operations Airspace Specialist, AWP-520.3, Federal Aviation Administration, 15000 Aviation Boulevard, Lawndale, California 90261, telephone (310) 725-6502.

SUPPLEMENTARY INFORMATION: The FAA published this direct final rule with a request for comments in the Federal Register on March 7, 2006 (71 FR 11297). In addition, a correction to the direct final rule was published in the Federal Register on March 24, 2006, changing the effective date to June 8, 2006, to coincide with the IFR Enroute Low Altitude charting date. The FAA uses the direct final rulemaking procedure for a non-controversial rule where the FAA believes that there will be no adverse public comment. This direct final rule advised the public that no adverse comments were anticipated, and that unless a written adverse comment, or written notice of intent to submit such an adverse comment, were received within the comment period, the regulation will become effective on June 8, 2006, as per the final rule correction. No adverse comments were received, and thus this notice confirms that this direct final rule will become effective on that date.

Issued in Los Angeles, California, on April 12, 2006.
Tony DiBernardo,
Manager, Resource Management Branch, AWP-540, Western Terminal Operations.

[FR Doc. 06-3948 Filed 4-26-06; 8:45 am]

BILLING CODE 4910-13-M